FEDERAL COMMUNICATIONS COMMISSION

[DA 99-3018]

Acceptance of Applications for Amateur Service Club and Military Recreation Station Call Sign Administrators

AGENCY: Federal Communications Commission.

ACTION: Notice.

SUMMARY: This document announces that the Commission will accept requests from organizations interested in processing applications for amateur service club and military recreation station call signs. An organization requesting designation as a “Club Station Call Sign Administrator” will be permitted to process applications for amateur service club and military recreation station call signs.

DATES: Requests may be filed on or after March 1, 2000.

FOR FURTHER INFORMATION CONTACT: William T. Cross, Public Safety and Private Wireless Division, Wireless Telecommunications Bureau, (202) 418-0680.

SUPPLEMENTARY INFORMATION: The Public Notice released on January 3, 2000, announced that the Commission will accept requests from organizations interested in processing applications for amateur service club and military recreation station call signs. On October 21, 1998, the Federal Communications Commission (FCC) adopted a Report and Order, 63 FR 68904, 12/14/98, reinstituting the use of volunteer organizations for the purpose of processing applications for amateur service club and military recreation station call sign. A club station license is an amateur service station license granted only to the trustee of an amateur service club, which must be composed of at least four persons and have a name, a document of organization, management, and a primary purpose devoted to amateur service activities consistent with part 97 of the FCC's rules. A military recreation station license is an amateur service station license granted only to the person who is the license custodian designated by the official in charge of the United States military recreational premises where the station is situated.

The purpose of this Public Notice is to announce that beginning March 1, 2000, the FCC will accept requests from organizations interested in processing applications for amateur service club and military recreation station call signs. Requests received before this date will not be considered. We will accept the services of any organization meeting the requirements of section 4(g)(3)(B) of the Communications Act. Organizations interested in processing applications for amateur service club and military recreation station call signs should familiarize themselves with the Report and Order and the requirements of the statute.

An organization requesting designation as a “Club Station Call Sign Administrator” so that it can process applications for amateur service club and military recreation station call signs must provide information showing: (1) That it is an amateur radio organization; (2) that it has tax-exempt status under section 501(c)(3) of the Internal Revenue Code of 1986; (3) that it will provide voluntary, uncompensated and unreimbursed services for processing applications for club and military recreation station call signs; (4) that it will submit the information to the FCC in an electronic batch file; and (5) that it will retain the application information for at least 15 months and make it available to the FCC upon request. The Club Station Call Sign Administrator may collect all necessary information in any manner of its choosing, including creating its own forms.

All requests must be signed by a responsible official of the organization and include the telephone number of a person familiar with the request. Interested organizations must file their request with the Federal Communications Commission, Wireless Telecommunications Bureau, Public Safety and Private Wireless Division, 445 Twelfth Street, SW, Room 4-C330, Washington, DC 20554, ATTENTION: CLUB STATION CALL SIGN ADMINISTRATOR. Failure to follow these filing procedures will result in the request being returned without consideration.

Qualified organizations that successfully complete a pilot autogrant batch filing project will be authorized as Club Station Call Sign Administrators to process applications for amateur service club and military recreation station call signs and submit the information to the FCC in an electronic batch file. The FCC will announce by public notice the names and addresses of Club Station Call Sign Administrators.

Federal Communications Commission.
Magalie Roman Salas,
Secretary.

[FR Doc. 00-4838 Filed 2-29-00; 8:45 am]

BILLING CODE 6712-01-P